DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following urbanized areas: Denver, Colorado; Chicago, Illinois; Cleveland, Ohio; Minneapolis, Minnesota; Pittsburgh, Pennsylvania; Los Angeles, California; and Seattle, Washington. The purpose of this notice is to activate the limitation on any claims that may challenge these final FTA environmental actions.

DATES: By this notice, FTA is advising the public of final agency actions subject to Title 23 United States Code (U.S.C.) section 139(l). A claim seeking judicial review of the FTA actions announced herein for the listed public transportation projects will be barred unless the claim is filed on or before February 13, 2006.

FOR FURTHER INFORMATION CONTACT: Joseph Ossi, Environmental Protection Specialist, Office of Planning and Environment, 202-366-1613. FTA is located at 400 Seventh Street, SW., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (RODs) and Findings of No Significant Impact (FONSIs)—for the listed projects are available online at http://www.fta.dot.gov/planning/environment/planning_environment_documents.html or may be obtained by contacting the FTA Regional Office for the urbanized area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], section 4(f) of the Department of Transportation Act of 1966 [49 U.S.C. 303], section 106 of the National Historic Preservation Act [16 U.S.C. 470f], and the Clean Air Act [42 U.S.C. 7401-7671q].

The projects and actions that are the subject of this notice are:

1. Project name and location: West Corridor Light Rail Transit Project; metropolitan Denver, Colorado. Project sponsor: Regional Transportation District. Project description: The project is a 12-mile, 12-station light rail transit (LRT) line from the existing light rail line at Auraria West Station (near the Auraria Campus in downtown Denver), west across the South Platte River, then west along the existing Associated Railroad right-of-way (which roughly parallels 13th Avenue), taking a turn to the south at the Lakewood Industrial Park to serve the Denver Federal Center, then west along the south side of 6th Avenue, crossing back to the north to serve the Jefferson County Government Center which is the western terminus of the project. Final agency actions: ROD issued April 19, 2004; Section 4(f) finding; Section 106 Memorandum of Agreement; and project-level Air Quality Conformity determination. Supporting documentation: Final Environmental Impact Statement issued October 24, 2003.

2. Project name and location: Paulina Connector; Chicago, Illinois. Project sponsor: Chicago Transit Authority. Project description: The Paulina Connector is a rail rapid transit connection on existing railroad right-of-way between the Cermak Branch of the Blue line and the Green line in Paulina. No new stations are planned, but the project will provide operational flexibility and efficiency for service from the west side of Chicago to downtown Chicago and O'Hare Airport. Final agency actions: FONSI issued on June 12, 2006; Section 106 Finding of No Adverse Effect; project-level Air Quality Conformity determination. Supporting documentation: Environmental Assessment issued May 5, 2006.

3. Project name and location: East Side Transit Center; Cleveland, Ohio. Project sponsor: Greater Cleveland Regional Transit Authority. Project description: The project is the construction of a bus transfer center on Prospect Avenue and East 21st Street. Final agency actions: FONSI issued on April 11, 2006; Section 106 Programmatic Agreement; project-level Air Quality Conformity determination. Supporting documentation: Environmental Assessment issued in August 2005.

4. Project name and location: Minneapolis Nicollet Hotel Block Project; Minneapolis, Minnesota. Project sponsors: City of Minneapolis and the Metropolitan Council. Project description: This project includes a below-grade bus layover facility with the capacity for the layover of 26 buses, and an enclosed, at-grade passenger waiting area. A private, mixed-used development with approximately 300 dwelling units, parking and retail space will be located on the first and second floors above the at-grade passenger waiting area. Final agency actions: FONSI issued on August 3, 2005; Section 106 Memorandum of Agreement. Supporting documentation: Environmental Assessment issued in July 2005.

5. Project name and location: Northstar Corridor Commuter Rail Project, Minneapolis to Big Lake, Minnesota. Project sponsors: Minnesota Department of Transportation and the Northstar Corridor Development Authority. Project description: This project is a 40-mile commuter rail line on existing railroad right-of-way from downtown Minneapolis to Big Lake, Minnesota with stations in downtown Minneapolis, Fridley, Coon Rapids-Riverdale, Anoka, Elk River and Big Lake. The project also includes a light rail transit (LRT) component, which is a four block extension of the existing Hiawatha LRT line from the Warehouse District Station to the downtown Minneapolis Intermodal Station where transfers between the LRT and commuter rail line will occur. Final agency actions: ROD issued on December 12, 2002; FONSI on project changes issued on March 15, 2006; Section 4(f) finding; and Section 106 Programmatic Agreement. Supporting documentation: Final Environmental Impact Statement issued on April 5, 2002; Environmental Assessment issued on December 22, 2005.

6. Project name and location: North Shore Connector, Pittsburgh, Pennsylvania. Project sponsor: Port Authority of Allegheny County. Project description: The project is a 1.4 mile extension of the light rail transit line from Gateway Center Station in downtown, through a tunnel under the Allegheny River to a terminus just west of Allegheny Avenue on the Pittsburgh North Shore. The project includes three new stations—Gateway, North Side, and Allegheny. Final agency actions: Amended ROD issued on June 15, 2006; Section 106 Programmatic Agreement; Section 4(f) finding; project-level Air Quality Conformity determination. Supporting documentation: Final Environmental Impact Statement issued May 3, 2002.

7. Project name and location: Mid-City/Exposition Corridor Light Rail Transit Project, Los Angeles, California. Project sponsor: Los Angeles County Metropolitan Transportation Authority (LACMTA). Project description: The Mid-City/Exposition Corridor Project is a light rail transit (LRT) project that will run 8.6 miles from 7th Street/Metro Center Station in downtown Los Angeles to the intersection of Washington and National Boulevards in Culver City. The LRT will operate in a dual-track configuration mainly at-grade on existing streets or in a street-median right-of-way owned by LACMTA. The project includes eight new LRT stations and three grade separations: one below-grade segment at Flower and Figueroa Streets; an aerial segment at La Brea Avenue; and an aerial segment at La Cienega Boulevard, extending over Jefferson Boulevard and the Ballona Creek to Fay Avenue in Culver City. Final agency actions: ROD issued on February 24, 2006; Section 106 Finding of No Adverse Effect; project-level Air Quality Conformity determination. Supporting documentation: Final Environmental Impact Statement issued on October 14, 2005.

8. Project name and location: North Link Light Rail Transit Project, Seattle, Washington. Project sponsor: Central Puget Sound Regional Transit Authority (Sound Transit). Project description: The project is a 5-station, 7-mile extension of the light rail transit (LRT) system in Seattle. The LRT extension would operate in exclusive right-of-way between Northgate area in north Seattle and downtown Seattle, with stations at Northgate, Roosevelt, the University District, Husky Stadium, and Capitol Hill. Final agency actions: ROD issued on June 7, 2006; Section 106 Finding of No Adverse Effect; project-level Air Quality Conformity determination. Supporting documentation: Final Environmental Impact Statement issued November 5, 1999; Supplemental Final Environmental Impact Statement issued April 7, 2006.

Issued on: August 10, 2006.
David B. Simpson,
Acting Associate Administrator for Planning and Environment, Washington, DC.

[FR Doc. E6-13533 Filed 8-16-06; 8:45 am]

BILLING CODE 4910-57-P